DEPARTMENT OF THE INTERIOR

National Park Service

Public Notice

AGENCY: National Park Service, Interior.

ACTION: Public notice.

SUMMARY: Pursuant to 36 CFR 51.23, public notice is hereby given that the National Park Service proposes to extend the following expiring concession contract for a period of up to 1 year, or until such time as a new contract is executed, whichever occurs sooner.

SUPPLEMENTARY INFORMATION: The listed concession contract will expire by its terms on December 31, 2005. The National Park Service has determined that the proposed short-term extension is necessary in order to avoid interruption of visitor services and has taken all reasonable and appropriate steps to consider alternatives to avoid such interruption. This extension will allow the National Park Service to complete and issue a prospectus leading to the competitive selection of a concessioner for a new long-term concession contract covering this operation.

Conc ID Number | Concessioner name | Park
LARO001-92 | Roosevelt Recreational Enterprises | Lake Roosevelt National Recreation Area.

DATES: Effective Date: January 1, 2006.

FOR FURTHER INFORMATION CONTACT: Jo A. Pendry, Concession Program Manager, National Park Service, Washington, DC 20240, Telephone 202/513-7156.

Dated: April 21, 2006.
Alfred J. Poole, III
Acting Assistant Director, Business Services.

[FR Doc. 06-4950 Filed 5-30-06; 8:45 am]

BILLING CODE 4312-53-M